DEPARTMENT OF STATE

[Public Notice: 12909]

Notice of Public Meeting in Preparation for International Maritime Organization PPR 13 Meeting

The Department of State will conduct a public meeting at 1:00 p.m. EST on Wednesday, February 4, 2026, virtually via Microsoft Teams. The primary purpose of the meeting is to prepare for the 13th session of the International Maritime Organization's (IMO) Pollution Prevention and Response Sub-Committee (PPR 13) to be held in London, United Kingdom from Monday, February 9, 2026 to Friday, February 13, 2026. Members of the public may participate in the public meeting up to the capacity of the Microsoft Teams line. The Microsoft Teams information is Conference Call-in number = +1 410-874-6742; Phone Conference ID = 213 768 608#. To RSVP, participants should contact the meeting coordinator, Ms. Nicole M. Schindler, in writing either by email at Nicole.M.Schindler@uscg.mil no later than Monday, February 2, 2026 or in writing at United States Coast Guard (CG-OES), ATTN: Ms. Nicole M. Schindler, 2703 Martin Luther King Jr. Ave. SE, Stop 7509, Washington, DC 20593-7509 to be received no later than Thursday, January 29, 2026 or via phone at (206) 820-5710 no later than Monday, February 2, 2026. Ms. Schindler will provide meeting access information (MS Teams link and phone number) for virtual attendance.

The agenda items to be considered at this meeting are similar those discussed at PPR 13, and include:

—Adoption of the agenda;

—Decisions of other IMO bodies;

—Safety and pollution hazards of chemicals and preparation of consequential amendments to the IBC Code;

—Amendments to MARPOL Annex II in order to improve the effectiveness of cargo tank stripping, tank washing operations and prewash procedures for products with a high melting point and/or high viscosity;

—Development of a legally binding framework for the control and management of ships' biofouling to minimize the transfer of invasive aquatic species;

—Reduction of the impact on the Arctic of Black Carbon emissions from international shipping;

—Evaluation and harmonization of rules and guidance on the discharge of discharge water from EGCS into the aquatic environment, including conditions and areas;

—Review and development of NOX emission requirements in MARPOL Annex VI and the NOX Technical Code 2008;

—Review and amendment of the NTC 2008 to provide a means for certification of engines that operate on non-carbon-containing fuel or mixtures of carbon-containing and non-carbon-containing fuels;

—Revision of MARPOL Annex IV and associated guidelines;

—Follow-up work emanating from the Action Plan to address marine plastic litter from ships;

—Revision of the Revised guidelines and specifications for pollution prevention equipment for machinery space bilges of ships (resolution MEPC.107(49));

—Review of the IBTS Guidelines and amendments to the IOPP Certificate and Oil Record Book;

—Unified interpretation of provisions of IMO environment-related conventions;

—Biennial agenda and provisional agenda for PPR 14;

—Election of Chair and Vice-Chair for 2027;

—Any other business; and

—Report to the Marine Environment Protection Committee.

Please note: The IMO may, on short notice, adjust the PPR 13 agenda to accommodate the constraints associated with the meeting format. Any changes to the agenda will be reported to those who RSVP. Those who plan to participate should contact the meeting coordinator, Ms. Nicole M. Schindler, in writing either by email at Nicole.M.Schindler@uscg.mil no later than Monday, February 2, 2026 or via U.S. mail at United States Coast Guard (CG-OES), ATTN: Ms. Nicole M. Schindler, 2703 Martin Luther King Jr. Ave. SE, Stop 7509, Washington, DC 20593-7509 to be received no later than Friday, January 30, 2025 or via phone at (206) 820-5710 no later than Monday, February 2, 2026.

Additional information regarding this and other IMO public meetings may be found at: https://www.dco.uscg.mil/IMO.

(Authority: 22 U.S.C. 2656 and 5 U.S.C. 552)

Emily C. Miletello,
Coast Guard Liaison Officer, Office of Ocean and Polar Affairs, U.S. Department of State.

[FR Doc. 2026-00572 Filed 1-13-26; 8:45 am]

BILLING CODE 4710-09-P